DEPARTMENT OF DEFENSE

Department of the Navy

Notice of Intent To Grant Exclusive Patent License; Survival, Inc.

AGENCY: Department of the Navy, DOD.

ACTION: Notice.

SUMMARY: The Department of the Navy hereby gives notice of its intent to grant to Survival, Inc. a revocable, nonassignable, exclusive license in the United States, to practice the Government-owned inventions described in U.S. Patent No. 6,376,436 entitled “Chemical Warfare Agent Decontamination Foaming composition and Method”, Navy Case No. 82169, and U.S. Patent No. RE 37,207 E entitled “Decontamination Solution and Method”, Navy Case No. 82505, and U.S. Patent No. 5,760,089 entitled “Chemical Warfare Agent Decontaminant Solution Using Quaternary Ammonium Complexes”, Navy Case No. 77029.

DATES: Anyone wishing to object to the granting of this license has (15) days from the date of this notice to file written objections along with supporting evidence, if any.

ADDRESSES: Written objections are to be filed with the Technology Transfer Office, Naval Surface Warfare Center Dahlgren Div, Code B04, 17320 Dahlgren Rd, Dahlgren, VA 22448-5100.

FOR FURTHER INFORMATION CONTACT: Mr. Ramsey D. Johnson, Technology Transfer Manager, Code B04, Naval Surface Warfare Center Dahlgren Div, 17320 Dahlgren Rd, Dahlgren, VA 22448-5100, tel (540) 653-2680, E-Mail johnsonrd2@nswc.navy.mil or fax (540) 653-2687.

(Authority: 35 U.S.C. 207, 37 CFR Part 404.)

Dated: July 10, 2002.
R.E. Vincent II,
Lieutenant Commander, Judge Advocate General's Corps, U.S. Navy, Federal Register Liaison Officer.

[FR Doc. 02-17950 Filed 7-16-02; 8:45 am]

BILLING CODE 3810-FF-P